DEPARTMENT OF AGRICULTURE

Forest Service

Ochoco National Forest, Lookout Mountain Ranger District; Oregon; Ochoco Wild and Free Roaming Herd Management Plan Revision Project EIS

AGENCY: Forest Service, USDA.

ACTION: Notice of intent to prepare an Environmental Impact Statement.

SUMMARY: The Ochoco National Forest is preparing an Environmental Impact Statement (EIS) to analyze the effects of revising the 1975 Ochoco Wild and Free Roaming Herd Management Plan (Herd Management Plan). The Herd Management Plan provides guidance for managing wild, free roaming horses within the Big Summit Territory on the Lookout Mountain Ranger District. The 27,300-acre Big Summit Territory is located approximately 30 miles east of Prineville and includes Round Mountain and Duncan Butte. The 1975 Herd Management Plan set an Appropriate Management Level (AML) of 55-65 horses; the Ochoco National Forest Land and Resource Management Plan (LRMP) states horses will be managed at a maximum of 60 head. This project will revise the original Herd Management Plan to comply with the Wild Free Roaming Horse and Burro Act (WFRHBA) of 1971, as amended, and the federal regulation for management of wild and free-roaming horses and burros. The proposed action is consistent with the Ochoco National Forest Land and Resource Management Plan, as amended.

DATES: Comments concerning the scope of the analysis must be received by July 21, 2017. The Draft Environmental Impact Statement is expected to be completed and available for public comment in June 2018. The Final Environmental Impact Statement is expected to be completed in September 2018.

ADDRESSES: Send written comments to Ochoco Wild and Free Roaming Herd Management Plan Revision Project, c/o Marcy Anderson, Lookout Mountain District, Ochoco National Forest, 3160 NE Third Street, Prineville, Oregon 97754. Alternately, electronic comments may be submitted at https://cara.ecosystem-management.org/Public/CommentInput?project=46228. Electronic comments may be entered directly into the online form or submitted as an attachment in plain text (.txt), Microsoft Word (.doc), rich text format (.rtf), or portable document format (.pdf).

FOR FURTHER INFORMATION CONTACT: Tory Kurtz, Project Leader, at 3160 NE Third Street, Prineville, Oregon 97754, or at (541) 416-6500, or by email at tlkurtz@fs.fed.us.

Responsible Official: The responsible official will be Stacey Forson, Forest Supervisor, Ochoco National Forest, 3160 NE Third Street, Prineville, Oregon 97754.

SUPPLEMENTARY INFORMATION:

Purpose and Need. The purpose of the proposed action is to revise the 1975 Plan to incorporate best available science and to be consistent with the 1971 Wild Free Roaming Horse and Burro Act as amended (WFRHBA), 36 CFR 222 Subpart D, the Ochoco NF LRMP, Forest Service Manual 2260 and other associated direction. The need for the proposed action is to ensure the herd is managed as a self-sustaining population of healthy animals in a thriving natural ecological balance with other uses and the productive capacity of their habitat as required by the WFRHBA.

Proposed Action. The Ochoco National Forest is proposing the following actions to update and revise the 1975 Herd Management Plan:

1. Determine if the current AML of a maximum of 60 head, as established in the Ochoco National Forest LRMP, continues to be valid. If it is no longer valid, determine the optimum number of animals the Territory can support on a yearlong basis with a thriving natural ecological balance as required by the WFRHBA. An AML range will be proposed to provide for a thriving natural ecological balance incorporating the minimal feasible level of management as required by the WFRHBA. The AML analysis will be conducted according to the guidance of the Bureau of Land Management Wild Horses and Burros Management Handbook (H-4700-1). Under this guidance there is a three tier process to determine AML that considers: (1) The four essential habitat needs to sustain a healthy wild horse population and healthy lands over time; (2) the amount of sustainable forage use available for wild horses; and (3) management of the genetic diversity of the wild horse herd. In determining the AML, the most limiting factors for essential habitat needs must be used to create a thriving natural ecological balance and multiple use relationship in the area. The most limiting factors for the Big Summit Territory are winter forage and space. The AML analysis will calculate the winter forage available for horses and allocate the forage for maintenance of healthy horses with consideration of the multiple uses in the Territory. Based on an annual census, horses above the identified AML range would be considered excess animals.

2. Correct the Territory boundary map to remove private land that was mistakenly included in the original Territory map; this would revise the Territory acres to 26,975, as opposed to 27,300 acres as described in the original Environmental Assessment.

3. Manage for genetic diversity in the population through introduction of new genes, adjustments of the sex ratio or other actions. The Forest will continue to work with Texas A&M University and monitor genetic diversity with samples collected from captures or other opportunities to ensure genetic diversity is managed to the best of our ability.

4. Implement methods to slow the herd's rate of growth (reproductive rate) as needed to maintain AML within the identified range. Methods to slow the herd growth rate could include adjusting age distribution and approved fertility control methods such as Porcine Zona Pellucida (PZP).

5. Develop an Emergency Action Framework for effectively and humanely managing situations such as sick, lame, or old horses or public safety concerns. This Emergency Action Framework would be used to help inform the Forest Service's Responsible Official.

6. Develop an off-range plan that would include protocols for capturing horses, handling horses including identifying facilities and needs, adoption of horses, training programs and the sale of horses. At a minimum, a corral that is currently located at the Ochoco Ranger Station compound on the Lookout Mountain Ranger District would be improved to fit the needs of off-range management.

7. Forest Plan Amendment: If the analysis indicates that a different AML or range of AMLs is appropriate for the revised Herd Management Plan, a Forest Plan amendment would be required. The 2012 Planning Rule at 36 CFR 219 includes provisions that must be considered when a forest plan amendment is completed. Substantive rule requirements that are likely to be directly related to the proposed amendment include:

219.8(a)(2) Air, soil, and water; 219.8(a)(3) Riparian areas; 219.9(a)(1) Ecosystem integrity; 219.10(a)(1) Aesthetic values, air quality, cultural and heritage resources, ecosystem services, fish and wildlife species, forage, geologic features, grazing and rangelands, habitat and habitat connectivity, recreation settings and opportunities, riparian areas, scenery, soil, surface and subsurface water quality, timber, trails, vegetation, viewsheds, wilderness, and other relevant resources and uses; 219.10(a)(5) Habitat conditions, subject to the requirements of 219.9, for wildlife, fish, and plants commonly enjoyed and used by the public; for hunting, fishing, trapping, gathering, observing, subsistence, and other activities (in collaboration with federally recognized Tribes, Alaska Native Corporations, other Federal agencies, and State and local governments); and 219.10(a)(10) Opportunities to connect people with nature.

Comment: Public comments about this proposal are requested in order to assist in identifying issues, determine how to best manage the resources, and to focus the analysis. Comments received on this notice, including names and addresses of those who comment, will be considered part of the public record on this proposed action and will be available for public inspection. Comments submitted anonymously will be accepted and considered; however, those who submit anonymous comments will not have standing to file an objection to the Record of Decision under 36 CFR 218. Additionally, pursuant to 7 CFR 1.27(d), any person may request the Agency to withhold a submission from the public record by showing how the Freedom of Information Act (FOIA) permits such confidentiality. Persons requesting such confidentiality should be aware that, under FOIA, confidentiality may be granted in only very limited circumstances, such as to protect trade secrets. The Forest Service will inform the requester of the Agency's decision regarding the request for confidentiality, and where the request is denied, the Agency will return the submission and notify the requester that the comments may be resubmitted with or without name and address within a specified number of days.

Section 106 of the National Historic Preservation Act requires Agency officials to determine whether a proposed Federal action is an undertaking that has the potential to cause effects to historic properties. In addition, the Forest Service is required to provide those with significant interests in historic preservation issues the opportunity to participate in the consultation process as a consulting party. Participating in consultation during the early stages of a proposed undertaking is in everyone's best interest to avoid having problems emerge later as a project develops. If effects are identified, the Forest must reduce or eliminate those effects through avoidance, data recovery, or other forms of mitigation and in consultation with the State Historic Preservation Office, Native American tribes, and interested parties. In order for you to be considered as a consulting party, you must submit a written request to me in response to this letter. Each request will be reviewed in consultation with the State Historic Preservation Office, Tribal Historic Preservation Office and Native American tribes to determine which should be consulting parties.

A draft EIS will be filed with the Environmental Protection Agency (EPA) and available for public review by June, 2018. The EPA will publish a Notice of Availability (NOA) of the draft EIS in the Federal Register. The final EIS is scheduled to be available September, 2018.

The comment period on the draft EIS will be 45 days from the date the EPA publishes the notice of availability in the Federal Register.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage, but that are not raised until after completion of the final EIS, may be waived or dismissed by the courts [City of Angoon v. Harris, 490 F. Supp. 1334, 1338 (E.D. Wis. 1980)]. It is very important that those interested in this proposed action participate by the close of the 45-day comment period, so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement.

Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Ochoco National Forest. The responsible official will decide whether and how to revise the Ochoco Wild Horse Herd Management Plan.

The Ochoco Wild Horse Herd Management Plan decision and the reasons for the decision will be documented in the record of decision. That decision will be subject to the Forest Service Project-level Predecisional Administrative Review Process (“Objection Process” at 36 CFR 218).

Dated: June 7, 2017.
Jeanne M. Higgins,
Associate Deputy Chief, National Forest System.

[FR Doc. 2017-12951 Filed 6-20-17; 8:45 am]

BILLING CODE 3411-15-P